DEPARTMENT OF COMMERCE

Foreign-Trade Zones Board

[B-48-2019]

Foreign-Trade Zone (FTZ) 29—Louisville, Kentucky; Notification of Proposed Production Activity; Amcor Flexibles L.L.C. (Flexible Packaging), Shelbyville, Kentucky

Amcor Flexibles L.L.C. (Amcor) submitted a notification of proposed production activity to the FTZ Board for its facility in Shelbyville, Kentucky. The notification conforming to the requirements of the regulations of the FTZ Board (15 CFR 400.22) was received on July 29, 2019.

Amcor already has authority to produce flexible packaging within FTZ 29. The current request would add one finished product and one foreign status material/component to the scope of authority. Pursuant to 15 CFR 400.14(b), additional FTZ authority would be limited to the specific foreign-status material/component and specific finished product described in the submitted notification (as described below) and subsequently authorized by the FTZ Board.

Production under FTZ procedures could exempt Amcor from customs duty payments on the foreign-status material/component used in export production. On its domestic sales, for the foreign-status material/component noted below and in the existing scope of authority, Amcor would be able to choose the duty rates during customs entry procedures that apply to finished die cut lids (duty rate 2.6%). Amcor would be able to avoid duty on foreign-status components which become scrap/waste. Customs duties also could possibly be deferred or reduced on foreign-status production equipment.

The material/component sourced from abroad is laminated aluminum foil (duty rate 3.0%). The request indicates that the material/component is subject to special duties under Section 232 of the Trade Expansion Act of 1962 (Section 232). The applicable Section 232 decisions require subject merchandise to be admitted to FTZs in privileged foreign status (19 CFR 146.41).

Public comment is invited from interested parties. Submissions shall be addressed to the Board's Executive Secretary and sent to: ftz@trade.gov. The closing period for their receipt is September 16, 2019.

A copy of the notification will be available for public inspection in the “Reading Room” section of the Board's website, which is accessible via www.trade.gov/ftz.

For further information, contact Juanita Chen at juanita.chen@trade.gov or 202-482-1378.

Dated: July 30, 2019.
Elizabeth Whiteman,
Acting Executive Secretary.

[FR Doc. 2019-16665 Filed 8-2-19; 8:45 am]

BILLING CODE 3510-DS-P